DEPARTMENT OF TRANSPORTATION

Federal Aviation Administration

14 CFR Part 71

[Docket No. FAA-2003-14347; Airspace Docket No. 03-ACE-4]

Modification of Class D Airspace; and Modification of Class E Airspace; Topeka, Philip Billard Municipal Airport, KS

AGENCY: Federal Aviation Administration (FAA), DOT.

ACTION: Direct final rule; request for comments; correction.

SUMMARY: This action corrects a direct final rule; request for comments that was published in the Federal Register on Monday, February 10, 2003, (68 FR 6606). It corrects an error in the heading of the legal description of Class E2 airspace at Topeka, Philip Billard Municipal Airport, KS.

DATES: This direct final rule is effective on 0901 UTC, May 15, 2003.

Comments for inclusion in the Rules Docket must be received on or before March 25, 2003.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

Federal Register document 03-3266 published on Monday, February 10, 2003, (68 FR 6606) modified Class D and Class E2 airspace at Topeka, Philip Billard Municipal Airport, KS. These airspace areas are defined, in part, with reference to Topeka, Forbes Field, KS. The modifications were to correct the Topeka, Forbes Field, KS airport reference point used in the legal description of Topeka, Philip Billard Municipal Airport, KS airspace areas. The Topeka, Philip Billard Municipal Airport, KS Class E2 airspace area was incorrectly titled Topeka, Forbes Field, KS.

Accordingly, pursuant to the authority delegated to me, the Class E2 airspace at Topeka, Philip Billard Municipal Airport, KS, as published in the Federal Register on Monday, February 10, 2003, (68 FR 6606), (FR Doc. 03-3266), is corrected as follows:

§ 71.1 [Corrected]

On page 6607, Column 1, third paragraph, change “ACE KS E2 Topeka, Forbes Field, KS” to read “ACE KS E2 Topeka, Philip Billard Municipal Airport, KS.”

Issued in Kansas City, MO, on February 11, 2003.
Paul J. Sheridan,
Acting Manager, Air Traffic Division, Central Region.

[FR Doc. 03-4640 Filed 2-26-03; 8:45 am]

BILLING CODE 4910-13-M